DEPARTMENT OF ENERGY

Federal Energy Regulatory Commission

[Project No. 4349-033]

EONY Generation Limited; Notice of Intent To Prepare an Environmental Assessment

On April 26, 2024, EONY Generation Limited filed a relicense application for the 12.6-megawatt Moose River Hydroelectric Project No. 4349. The project is located on the Moose River in Lewis County, New York.

In accordance with the Commission's regulations, on May 1, 2025, Commission staff issued a notice that the project was ready for environmental analysis (REA notice). Based on the information in the record, including comments filed on the REA notice, staff does not anticipate that licensing the project would constitute a major federal action significantly affecting the quality of the human environment. Therefore, staff intends to prepare an environmental assessment (EA) on the application to relicense the project.¹

¹ For tracking purposes under the National Environmental Policy Act, the unique identification number for documents relating to this environmental review is EAXX-019-20-000-1746098364.

The EA will be issued and circulated for review by all interested parties. All comments filed on the EA will be analyzed by staff and considered in the Commission's final licensing decision.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

The application will be processed according to the following schedule. Revisions to the schedule may be made as appropriate.

Milestone | Target date
Commission issues EA | July 10, 2026.

Any questions regarding this notice may be directed to Kelly Wolcott by telephone at (202) 502-6480 or by email at kelly.wolcott@ferc.gov.

Dated: July 10, 2025.
Carlos D. Clay,
Deputy Secretary.

[FR Doc. 2025-13230 Filed 7-14-25; 8:45 am]

BILLING CODE 6717-01-P